FEDERAL COMMUNICATIONS COMMISSION

47 CFR Part 25

[IB Docket No. 16-408; FCC 17-122]

Updates Concerning Non-Geostationary, Fixed-Satellite Service Systems and Related Matters

AGENCY: Federal Communications Commission.

ACTION: Final rule; announcement of effective date.

SUMMARY: In this document, the Federal Communications Commission announces that the Office of Management and Budget (OMB) has approved, for a period of three years, the information collection associated with the Commission's Report and Order updating, clarifying and streamlining the Commission's rules governing non-geostationary satellite orbit, fixed-satellite service systems to better reflect current technology and promote additional operational flexibility.

DATES: The amendments to §§ 25.114, 25.115, 25.146, and 25.164, published December 18, 2017, at 82 FR 59972, are effective May 31, 2018. The incorporation by reference of certain publications listed in the rule for § 25.146 is approved by the Director of the Federal Register as of May 31, 2018.

FOR FURTHER INFORMATION CONTACT: Cathy Williams, Cathy.Williams@fcc.gov, 202-418-2918.

SUPPLEMENTARY INFORMATION: On May 1, 2018, OMB approved the information collection requirements contained in the Commission's Report and Order, FCC 17-122, published at 82 FR 59972, December 18, 2017. The OMB Control Number is 3060-0678. Accordingly, the effective date of the amendments to §§ 25.114, 25.115, 25.146, and 25.164 is May 31, 2018. The other rule amendments adopted in the Report and Order, which did not require OMB approval, became effective on January 17, 2018.

If you have any comments on the burden estimates listed below, or how the Commission can improve the collections and reduce any burdens caused thereby, please contact Cathy Williams, Federal Communications Commission, Room 1-C823, 445 12th Street SW, Washington, DC 20554. Please include the OMB Control Number, 3060-0678, in your correspondence. The Commission will also accept your comments via the internet if you send them to PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on May 1, 2018, for the new information collection requirements contained in the Commission's rules at 47 CFR 25.114, 25.115, 25.146, and 25.164.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0678.

The foregoing notice is required by the Paperwork Reduction Act of 1995, Public Law 104-13, October 1, 1995, and 44 U.S.C. 3507.

The total annual reporting burdens and costs for the respondents are as follows:

OMB Control Number: 3060-0678.

OMB Approval Date: May 1, 2018.

OMB Expiration Date: May 31, 2021.

Title: Part 25 of the Federal Communications Commission's Rules: Governing the Licensing of, and Spectrum Usage by, Commercial Earth Stations and Space Stations.

Form Nos.: FCC Form 312; Schedule A; Schedule B; Schedule S; FCC Form 312-EZ; FCC Form 312-R.

Respondents: Business or other for-profit entities.

Number of Respondents and Responses: 5,036 respondents; 5,094 responses.

Estimated Time per Response: 0.5 to 80 hours per response.

Frequency of Response: On occasion, one time, and annual reporting requirements; third-party disclosure requirement; recordkeeping requirement.

Obligation to Respond: Required to obtain or retain benefits. The statutory authority for this collection is contained in 47 U.S.C. 154, 301, 302, 303, 307, 309, 310, 319, 332, 605, and 721.

Total Annual Burden: 35,622 hours.

Total Annual Cost: $12,411,120.

Nature and Extent of Confidentiality: In general, there is no need for confidentiality with this collection of information. Certain information collected regarding international coordination of satellite systems is not routinely available for public inspection pursuant to 5 U.S.C. 552(b) and 47 CFR 0.457(d)(1)(vii).

Privacy Impact Assessment: No impact(s).

Needs and Uses: On September 27, 2017, the Commission released a Report and Order, FCC 17-122, titled, “Update to Parts 2 and 25 Concerning Non-Geostationary, Fixed-Satellite Service Systems and Related Matters.” In this Report and Order, the Commission updated and streamlined its rules governing satellite constellations that operate in the fixed-satellite service. Many of the amendments are substantive changes intended to give licensees greater operational flexibility. At the same time, however, many more applications for non-geostationary, fixed-satellite service systems have been filed, increasing the overall information collection burden. The information collection requirements in this collection are needed to determine the technical, legal, and other qualifications of applicants and licensees to operate a radio station and to determine whether grant of an authorization serves the public interest, convenience and necessity. Without such information, the Commission could not determine whether to permit respondents to provide communications services in the United States. Therefore, the Commission would not be able to fulfill its statutory responsibilities in accordance with the Communications Act of 1934, as amended, and the obligations imposed on parties to the World Trade Organization Basic Telecom Agreement.

Federal Communications Commission.
Marlene Dortch,
Secretary.

[FR Doc. 2018-10335 Filed 5-14-18; 8:45 am]

BILLING CODE 6712-01-P